FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

******Venedom-Miami, LLC (NVO & OFF), 6162 NW 74th Avenue, Miami, FL 33166, Officers: Jose Crisostomo, Manager (QI), Yadira Canate, Managing Member, Application Type: New NVO & OFF License.

Allyn International Services, Inc. (OFF), 13391 McGregor Blvd., Fort Myers, FL 33919, Officers: Daniel R. Chrovian, Vice President (QI), Allen Trevett, CEO, Application Type: New OFF License.

A-Logixtic Group, LLC (NVO), 600 Kenrick Drive, C-16, Houston, TX 77060, Officers: Naeem Iqbal, Manager Member (QI), Erika T. Veguez, Manager Member, Application Type: New NVO License.

Auto Export Shipping, Inc. dba AES (NVO), One Slater Drive, Elizabeth, NJ 07206, Officers: Diana F. Tigreros, Assistant Secretary (QI), Andrea Amico, President, Application Type: QI Change.

Blue Carrier Line Inc. (NVO & OFF), 19920 Foxwood Forest Blvd., Suite 401, Humble, TX 77338, Officer: Mary McKenna-O'Brien (QI), Application Type: New NVO & OFF License.

Caicos Caribbean Line, Inc. (NVO & OFF), 9999 NW 89th Avenue, Bay 18,19,20, Medley, FL 33178, Officer: Joanne M. Tyson, Managing Member (QI), Application Type: Business Structure Change to Caicos Caribbean Lines, LLC.

F.E.I. Logistics, Inc. (NVO), 1970 NW 70th Avenue, Miami, FL 33126, Officers: Karin Yocum, President (QI), Jason Sirjoo, Director, Application Type: New NVO License.

Felise Langi dba SF Enterprises (NVO & OFF), 2525 Mandela Parkway, Oakland, CA 94607, Officers: Felise Langi, Chief Executive Member (QI), Malia I. Langi, Member, Application Type: Business Structure Change to SF Enterprises & Logistics, LLC.

GB America, LLC (NVO & OFF), 18881 Von Karman Avenue, Suite 1450, Irvine, CA 92612, Officer: Jo Ning Huang, Managing Member, Application Type: New NVO & OFF License.

Shiner Electrical Trading Company, LLC. (OFF), 391 Curtner Avenue, Suite #1, Palo Alto, CA 94306, Officer: Xin You, Member/Manager (QI), Application Type: New OFF License.

Sunset Transportation, Inc. (NVO & OFF), 11325 Concord Village Avenue, Saint Louis, MO 63123, Officers: Casimera Tracy, Vice President (QI), James A. Williams, CEO, Application Type: QI Change.

Thomas Griffin International, Inc. dba Sea Lion Ocean Freight (NVO), 15903 Kent Ct., Tampa, FL 33647, Officer: Thomas L. Griffin, President (QI), Application Type: Add Additional Trade Name RV Shipping.

Ventech Inc. dba TDT Cargo (NVO & OFF), 7774 NW. 46th Street, Miami, FL 33166, Officers: Daniela Gonzalez, Vice President (QI), Juan C. Tovar, President, Application Type: New NVO & OFF License.

William's Worldwide Shipping & Trading, Inc. (NVO), 1177 Utica Avenue, Brooklyn, NY 11203, Officer: Michelle Williams Libert, President (QI), Application Type: New NVO License.

XPI Services, LLC (NVO & OFF), 2102 Ranch Road, Sachse, TX 75048, Officer: Roger Soudir, Managing Member (QI), Marieanne Soudir, Member, Application Type: New NVO & OFF License.

Dated: June 17, 2013.
By the Commission.
Karen V. Gregory,
Secretary.

[FR Doc. 2013-14814 Filed 6-20-13; 8:45 am]

BILLING CODE 6730-01-P